COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds service(s) to the Procurement List that will be furnished by nonprofit agencies employing persons who are blind or have other severe disabilities.

DATES: Date added to the Procurement List: August 4, 2024

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Additions

On 4/12/2024 (89 FR 25867) and 5/24/2024 (89 FR 45859), the Committee for Purchase From People Who Are Blind or Severely Disabled (operating as the U.S. AbilityOne Commission) published an initial notice of proposed additions to the Procurement List. The Committee determined that the service(s) listed below are suitable for procurement by the Federal Government and has added these service(s) to the Procurement List as a mandatory purchase for contracting activities listed. In accordance with 41 CFR 51-5.3(b), the mandatory purchase requirement is limited to those contracting activities at the locations listed, and in accordance with 41 CFR 51-5.2, the Committee has authorized nonprofit agencies listed as the authorized source(s) of supply.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service Type: Custodial Service

Mandatory for: US Army, Air National Guard Readiness Center, Joint Base Andrews, Maryland

Authorized Source of Supply: Chimes District of Columbia, Baltimore, MD

Contracting Activity: DEPT OF THE ARMY, W39L USA NG READINESS CENTER

The Committee finds good cause to dispense with the 30-day delay in the effective date normally required by the Administrative Procedure Act. See 5 U.S.C. 553(d). This addition to the Committee's Procurement List is effectuated because of the expiration of the DEPT OF THE ARMY, W39L USA NG READINESS CENTER contract. The Federal customer contacted and has worked diligently with the AbilityOne Program to fulfill this service need under the AbilityOne Program. To avoid performance disruption, and the possibility that the DEPT OF THE ARMY, W39L USA NG READINESS CENTER will refer its business elsewhere, this addition must be effective on 7/14/2024, ensuring timely execution for a 7/16/2024 start date while still allowing nine (9) days for comment. The Committee also published a notice of proposed Procurement List addition in the Federal Register on 4/12/2024 (89 FR 25867) and did not receive any comments from any interested persons. This addition will not create a public hardship and has limited effect on the public at large, but, rather, will create new jobs for other affected parties—people with significant disabilities in the AbilityOne program who otherwise face challenges locating employment. Moreover, this addition will enable Federal customer operations to continue without interruption.

Service(s)

Service Type: Supply and Warehousing Service

Mandatory for: U.S. Navy, Naval Supply Systems Command, Fleet Logistics Center, Hawaii Zone, Pearl Harbor, HI

Mandatory for: U.S. Navy, Naval Supply Systems Command, Fleet Logistics Center, Diego Garcia Zone, San Diego, CA

Mandatory for: U.S. Navy, Naval Supply Systems Command, Fleet Logistics Center, Mayport Zone, Mayport, FL

Mandatory for: U.S. Navy, Naval Supply Systems Command, Fleet Logistics Center, Norfolk Zone, NAS Virginia Beach, VA

Mandatory for: U.S. Navy, Naval Supply Systems Command, Fleet Logistics Center, Pacific Northwest Zone, Seattle, WA

Mandatory for: U.S. Navy, Naval Supply Systems Command, Fleet Logistics Center, Southwest Zone, San Diego, CA

Authorized Source of Supply: South Texas Lighthouse for the Blind, Corpus Christi, TX

Contracting Activity: DEPT OF THE NAVY, NAVSUP FLT LOG CTR PEARL HARBOR

Michael R. Jurkowski,
Director, Business Operations.

[FR Doc. 2024-14734 Filed 7-3-24; 8:45 am]

BILLING CODE 6353-01-P